DEPARTMENT OF HEALTH AND HUMAN SERVICES

Indian Health Service

National Native American Emergency Medical Services Association

AGENCY: Indian Health Service, IHS.

ACTION: Notice of single source cooperative agreement with the National Native American Emergency Medical Services Association.

SUMMARY: The Indian Health Service (IHS) announces the award of a cooperative agreement to the National Native American Emergency Medical Services Association (NNAEMSA) for a demonstration project to improve emergency medical services for Native American people by improving communications between the IHS and the Native American Emergency Medical Services providers and by supporting an Annual Educational Conference. The cooperative agreement is for a five-year project period effective July 1, 2000, to June 30, 2005. Total funding for the project is $280,000.

The award is issued under the authority of the Public Health Service Act, Section 301(a), and is included under the Catalog of Federal Domestic Assistance number 93.933.

The specific objectives of the project are:

1. The Association will publish, at least twice a year, a newsletter for members. The newsletter will be available in both hard copy and electronically.

2. The Association will present an Annual Educational Conference which supports training and continuing education for Native American EMS providers.

3. The Association will establish links with other national Indian organizations and with professional groups to serve as advocates for the EMS providers who work with Native American people nationwide.

Justification for Single Source

This project has been awarded on a non-competitive single source basis. NNAEMSA is the only nationwide organization that specifically represents approximately 70 individual Native American EMS programs. These EMS programs provide care to over half-million Native American people who live on Indian reservations or who live in non-reservation areas with significant Native American populations. The population served by these programs is the same as IHS's user population.

Use of Cooperative Agreement

A cooperative agreement has been awarded because of anticipated substantial programmatic involvement by IHS staff in the project. The substantial programmatic involvement is as follows:

1. IHS staff will approve articles to be included in the newsletters and may, as requested by the Association, provide articles.

2. Working with the Association, IHS staff will be involved in the development of the Annual Educational Conference to include topics of concern to the Agency and will be included in presentations as requested.

FOR FURTHER INFORMATION CONTACT: For program information, contact W. Craig Vanderwagen, M.D., Director, Division of Clinical and Preventive Services, Office of Public Health, Indian Health Service, Room 6A-55, Parklawn Building, 5600 Fishers Lane, Rockville, Maryland 20857, telephone (301) 443-3024. For grants information, contact Ms. M. Kay Carpentier, Grants Management Officer, Division of Acquisitions and Grants Management, Indian Health Service, Suite 100, 12300 Twinbrook Parkway, Rockville, Maryland 20852, telephone (301) 443-5204.

Dated: July 21, 2000.
Michel E. Lincoln,
Acting Director.

[FR Doc. 00-19865 Filed 8-4-00; 8:45 am]

BILLING CODE 4160-16-M